DEPARTMENT OF COMMERCE

National Institute of Standards and Technology

National Construction Safety Team Advisory Committee Meeting

AGENCY: National Institute of Standards and Technology, Department of Commerce.

ACTION: Notice of open meeting.

SUMMARY: The National Construction Safety Team (NCST) Advisory Committee (Committee) will meet in person and via teleconference on Tuesday, February 20, 2018 from 1:00 p.m. to 4:00 p.m. Eastern Time. The primary purpose of this meeting is to update the Committee on the progress of the implementation of the recommendations made as a result of the National Institute of Standards and Technology (NIST) Technical Investigation of the May 22, 2011, Tornado in Joplin, Missouri and provide the Committee with an overview of the ongoing work related to the recent reconnaissance teams deployed to Texas, Florida, Puerto Rico and California. The agenda may change to accommodate Committee business. The final agenda will be posted on the NIST website at https://www.nist.gov/topics/disaster-failure-studies/national-construction-safety-team-ncst/advisory-committee.

DATES: The NCST Advisory Committee will meet on Tuesday, February 20, 2018 from 1:00 p.m. until 4:00 p.m. Eastern Time. The meeting will be open to the public.

ADDRESSES: The meeting will be held via teleconference and in Conference Room B205 of Building 226, NIST, 100 Bureau Drive, Gaithersburg, Maryland 20899. For instructions on how to attend and participate in the meeting, please see the SUPPLEMENTARY INFORMATION section of this notice.

FOR FURTHER INFORMATION CONTACT: Benjamin Davis, Management and Program Analyst, Community Resilience Program, Engineering Laboratory, NIST, 100 Bureau Drive, Mail Stop 8615, Gaithersburg, Maryland 20899-8604. Mr. Davis' email address is Benjamin.Davis@nist.gov; and his phone number is (301) 975-6071.

SUPPLEMENTARY INFORMATION: The Committee was established pursuant to Section 11 of the NCST Act (Pub. L. 107-231, codified at 15 U.S.C. 7301 et seq.). The Committee is currently composed of six members, appointed by the Director of NIST, who were selected on the basis of established records of distinguished service in their professional community and their knowledge of issues affecting the National Construction Safety Teams. The Committee advises the Director of NIST on carrying out the NCST Act; reviews the procedures developed for conducting investigations; and reviews the reports issued documenting investigations. Background information on the NCST Act and information on the NCST Advisory Committee is available at https://www.nist.gov/topics/disaster-failure-studies/national-construction-safety-team-ncst/advisory-committee.

Pursuant to the Federal Advisory Committee Act, as amended, 5 U.S.C. App., notice is hereby given that the NCST Advisory Committee will meet on Tuesday, February 20, 2018 from 1:00 p.m. until 4:00 p.m. Eastern Time. The meeting will be open to the public. The meeting will be held via teleconference and in Conference Room B205 of Building 226, NIST, 100 Bureau Drive, Gaithersburg, Maryland 20899. The primary purpose of this meeting is to update the Committee on the progress of the implementation of the recommendations made as a result of the Technical Investigation of the May 22, 2011, Tornado in Joplin, Missouri and provide the Committee with an overview of the ongoing work related to the recent reconnaissance teams deployed to Texas, Florida, Puerto Rico and California. The agenda may change to accommodate Committee business. The final agenda will be posted on the NIST website at https://www.nist.gov/topics/disaster-failure-studies/national-construction-safety-team-ncst/advisory-committee-meetings.

Individuals and representatives of organizations who would like to offer comments and suggestions related to items on the Committee's agenda for this meeting are invited to request a place on the agenda. Approximately twenty-five minutes will be reserved near the conclusion of the meeting for public comments, and speaking times will be assigned on a first-come, first-served basis. The amount of time per speaker will be determined by the number of requests received, but is likely to be three minutes each. Questions from the public will not be considered during this period. All those wishing to speak must submit their request by email to the attention of Mr. Benjamin Davis, Benjamin.Davis@nist.gov, by 5:00 p.m. Eastern Time, Friday, February 9, 2018. Speakers who wish to expand upon their oral statements, those who had wished to speak but could not be accommodated on the agenda, and those who were unable to attend are invited to submit written statements to the NCST, National Institute of Standards and Technology, 100 Bureau Drive, MS 8604, Gaithersburg, Maryland 20899-8604, or electronically by email to Benjamin.Davis@nist.gov.

To participate in the teleconference, please submit your first and last name, email address, and phone number to Benjamin Davis at Benjamin.Davis@nist.gov or (301) 975-6071. After pre-registering, participants will be provided with detailed instructions on how to join the teleconference remotely. All visitors to the NIST site are required to pre-register to be admitted. Anyone wishing to attend this meeting must register by 5:00 p.m. Eastern Time, Friday, February 9, 2018, to attend. Please submit your full name, email address, and phone number to Benjamin Davis at Benjamin.Davis@nist.gov; his phone number is (301) 975-6071. Non-U.S. citizens must submit additional information; please contact Mr. Davis. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information, please contact Mr. Davis or visit: http://www.nist.gov/public_affairs/visitor/.

Kevin Kimball,
NIST Chief of Staff.

[FR Doc. 2018-02745 Filed 2-9-18; 8:45 am]

BILLING CODE 3510-13-P